ENVIRONMENTAL PROTECTION AGENCY

40 CFR Parts 52 and 81

[IN 116-1b; FRL-6522-2]

Approval and Promulgation of Implementation Plans; and Designation of Areas for Air Quality Planning Purposes; Indiana

AGENCY: Environmental Protection Agency (EPA).

ACTION: Proposed rule.

SUMMARY: EPA is proposing to approve a December 21, 1999, request from Indiana for redesignation of the carbon monoxide (CO) nonattainment areas in Lake and Marion Counties, Indiana to attainment of the CO national ambient air quality standards (NAAQS). The EPA is also proposing approval of the plans for maintaining the CO standard in the portions of these counties currently designated as not attaining the CO NAAQS. In the Final Rules section of this Federal Register, EPA is approving the State's SIP revision, as a direct final rule without prior proposal because the Agency views this as a noncontroversial revision and anticipates no adverse comments. A detailed rationale for the approval is set forth in the direct final rule. If we receive no adverse comments in response to that direct final rule we plan to take no further activity in relation to this proposed rule. If EPA receives significant adverse comments, in writing, which have not been addressed, we will withdraw the direct final rule and address all public comments received in a subsequent final rule based on this proposed rule. The EPA will not institute a second comment period on this document.

DATES: Written comments must be received on or before February 18, 2000.

ADDRESSES: Send written comments to: J. Elmer Bortzer, Chief, Regulation Development Section, Air Programs Branch, (AR-18J), U.S. Environmental Protection Agency, Region 5, 77 West Jackson Boulevard, Chicago, Illinois 60604.

You may inspect copies of the documents relevant to this action during normal business hours at the following location: Regulation Development Section, Air Programs Branch, (AR-18J), U.S. Environmental Protection Agency, Region 5, 77 West Jackson Boulevard, Chicago, Illinois 60604.

Please contact Patricia Morris at (312) 353-8656 before visiting the Region 5 office.

FOR FURTHER INFORMATION CONTACT: Patricia Morris, Environmental Scientist, Regulation Development Section, Air Programs Branch (AR-18J), U.S. Environmental Protection Agency, Region 5, 77 West Jackson Boulevard, Chicago, Illinois 60604, (312) 353-8656.

SUPPLEMENTARY INFORMATION: Throughout this document wherever “we,” “us,” or “our” are used we mean EPA.

This Supplementary Information section is organized as follows:

What action is EPA taking today?

Where can I find more information about this proposal and the corresponding direct final rule?

What action is EPA taking today?

In this action, we are proposing to approve a revision to the Indiana State Implementation Plan for carbon monoxide. The revision will redesignate Lake and Marion Counties, Indiana to attainment for CO. The revision will also approve CO maintenance plans for maintaining the CO standard in the portions of these counties currently designated as not attaining the CO national ambient air quality standards.

Where can I find more information about this proposal and the corresponding direct final rule?

For additional information see the direct final rule published in the rules section of this Federal Register.

Dated: January 3, 2000.
Francis X. Lyons,
Regional Administrator, Region 5.

[FR Doc. 00-727 Filed 1-18-00; 8:45 am]

BILLING CODE 6560-50-P